DEPARTMENT OF THE INTERIOR

National Park Service

Notice of Inventory Completion: School of American Research, Santa Fe, NM

AGENCY: National Park Service, Interior.

ACTION: Notice.

Notice is here given in accordance with the Native American Graves Protection and Repatriation Act (NAGPRA), 25 U.S.C. 3003, of the completion of an inventory of human remains and associated funerary objects in the possession of the School of American Research, Santa Fe, NM. The human remains and associated funerary objects were removed from Santa Fe County, NM.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the School of American Research professional staff in consultation with representatives of the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico.

Between 1970 and 1974, human remains representing a minimum of 283 individuals were removed from the Arroyo Hondo Pueblo site (LA 12), Santa Fe County, NM, during archeological investigations led by Dr. Douglas Schwartz, School of American Research staff. The excavations were funded primarily through grants from the National Science Foundation and the National Geographic Society. The site was originally owned by the School of American Research and donated to the Archaeological Conservancy in February 2003. The collection from the project, including 120 burials and 163 isolated human remains, are cared for at the School of American Research, except for 425 tree ring samples kept at the Laboratory of Tree Ring Research, University of Arizona, Tucson, AZ. No known individuals were identified. The 217 lots of associated funerary objects are 6 groups of beads, 20 groups of pottery sherds or ceramic items, 75 deteriorated remains of textiles and/or hides, 6 groups of bark fragments, 39 yucca-fiber mats, 9 lots of faunal bone artifacts, 7 lots of corncobs, 21 groups of lithics, 10 groups of wooden objects fragments, 3 basket fragment groups, 6 lots of vegetal material, 2 lots of combined yucca mats and textiles/hides, 1 lot of combined corncob and wood ornament, 1 lot of combined corncob and basketry fragment, and 11 groups of unidentifiable organic materials.

The Arroyo Hondo Pueblo site was founded circa A.D. 1300. Adobe roomblocks were built forming great plazas. By A.D. 1330, the Arroyo Hondo Pueblo site had 24 roomblocks constructed around ten wholly or partially enclosed plazas. By A.D. 1345, possibly due to changes in the annual precipitation, the pueblo was virtually abandoned, occupied by a small remnant and possibly seasonal population. This phase of settlement is referred to as the Component I occupation of Arroyo Hondo Pueblo site. In the 1370s, building on top of the ruins of the site, another phase of settlement began, which is referred to as Component II. Soon after A.D. 1410, the region was again affected by drought and the site was largely abandoned. In circa A.D. 1420, a fire destroyed a large part of the village, and within a few years the second and final occupation of the Arroyo Hondo Pueblo site came to an end.

The site is within the northern Rio Grande area and located near the pueblo sites of Pecos, San Cristobal, and Pindi. However, no oral traditions affiliate one specific Pueblo with the Arroyo Hondo Pueblo site. Physical anthropolgy, archeological investigations, and architecture indicate it was a northern Rio Grande Pueblo site, which potentially links the site to all contemporary Pueblo and Tewa-Hopi groups.

Extensive literature published by the School of American Research Press in eight separate volumes on the Arroyo Hondo Pueblo site, and in Ann M. Palkovich's Pueblo Population and Society: The Arroyo Hondo Skeletal and Mortuary Remains, James Mackey in Appendix G, “Arroyo Hondo Population Affinities”, affiliates the Arroyo Hondo site with the Tewa-Tano linguistic group based on statistical analysis of measurable features of the human remains compared with other contemporary populations. While the biological studies possibly indicate a Tewa-Tano linguistic group, it is certainly possible that the Arroyo Hondo Pueblo site, which is within the larger Rio Grande Pueblo tradition and the population movements after the occupation dates, may be linked to any or all of the contemporary Pueblo and Tewa-Hopi groups with whom the School of American Research consulted.

The pottery and other material goods reflect a northern Rio Grande tradition. The Arroyo Hondo Pueblo site is a Rio Grande Pueblo site due to the nature of its construction and use of plaza spaces and kivas. Similarities can be seen between the Arroyo Hondo Pueblo site and other contemporary sites in the northern Rio Grande.

Pueblo and Tewa-Hopi groups are represented today by the federally recognized Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico.

Officials of the School of American Research have determined that, pursuant to 25 U.S.C. 3001 (9-10), the human remains described above represent the physical remains of 283 individuals of Native American ancestry. Officials of the School of American Research also have determined that, pursuant to 25 U.S.C. 3001 (3)(A), the 217 objects described above are reasonably believed to have been placed with or near individual human remains at the time of death or later as part of the death rite or ceremony. Lastly, officials of the School of American Research have determined that, pursuant to 25 U.S.C. 3001 (2), there is a relationship of shared group identity that can be reasonably traced between the Native American human remains and associated funerary objects and the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico.

Representatives of any other Indian tribe that believes itself to be culturally affiliated with the human remains and associated funerary objects should contact Dr. Kathleen Whitaker, School of American Research, PO BOX 2188, Santa Fe, NM 87504, telephone (505) 954-7205, before October 13, 2005. Repatriation of the human remains and associated funerary objects to the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico may proceed after that date if no additional claimants come forward.

School of American Research is responsible for notifying the Hopi Tribe of Arizona; Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of San Juan, New Mexico; Pueblo of Sandia, New Mexico; Pueblo of Santa Ana, New Mexico; Pueblo of Santa Clara, New Mexico; Pueblo of Santo Domingo, New Mexico; Pueblo of Taos, New Mexico; Pueblo of Tesuque, New Mexico; Pueblo of Zia, New Mexico; and Zuni Tribe of the Zuni Reservation, New Mexico that this notice has been published.

Dated: August 3, 2005
Sherry Hutt,
Manager, National NAGPRA Program.

[FR Doc. 05-18082 Filed 9-12-05; 8:45 am]

BILLING CODE 4312-50-S